DEPARTMENT OF TRANSPORTATION

Federal Aviation Administration

Noise Compatibility Program Notice; Laredo International Airport, Laredo, TX

AGENCY: Federal Aviation Administration.

ACTION: Notice.

SUMMARY: The Federal Aviation Administration (FAA) announces that it is reviewing a proposed noise compatibility program that was submitted for Laredo International Airport under the provisions of 49 U.S.C. 47501 et seq. (the Aviation Safety and Noise Abatement Act, hereinafter referred to as “the Act”) and 14 CFR part 150 by the city of Laredo, Texas. This program was submitted subsequent to a determination by FAA that associated noise exposure maps submitted under 14 CFR Part 150 for Laredo International Airport were in compliance with applicable requirements, effective September 22, 2005, and announced in the Federal Register/Vol. 70, Nos. 189/Friday, September 30, 2005. The proposed noise compatibility program will be approved or disapproved on or before August 27, 2007.

DATES: Effective Date: The effective date of the start of FAA's review of the noise compatibility program is February 28, 2007. The public comment period ends April 29, 2007.

FOR FURTHER INFORMATION CONTACT: Paul Blackford, Federal Aviation Administration, Airports Division, 2601 Meacham Blvd., Fort Worth, Texas 76137-0650, telephone (817) 222-5607. Comments on the proposed noise compatibility program should also be submitted to the above office.

SUPPLEMENTARY INFORMATION: This notice announces that the FAA is reviewing a proposed noise compatibility program for Laredo International Airport, which will be approved or disapproved on or before August 27, 2007. This notice also announces the availability of this program for public review and comment.

An airport operator who has submitted noise exposure maps that are found by FAA to be in compliance with the requirements of Federal Aviation Regulations (FAR) Part 150, promulgated pursuant to the Act, may submit a noise compatibility program for FAA approval which sets forth the measures the operator has taken or proposes to reduce existing non-compatible uses and prevent the introduction of additional non-compatible uses.

The FAA has formally received the noise compatibility program for Laredo International Airport, effective on February 28, 2007. The airport operator has requested that the FAA review this material and that the noise mitigation measures, to be implemented jointly by the airport and surrounding communities, be approved as a noise compatibility program under section 47504 of the Act. Preliminary review of the submitted material indicates that it conforms to FAR Part 150 requirements for the submittal of noise compatibility programs, but that further review will be necessary prior to approval or disapproval of the program. The formal review period, limited by law to a maximum of 180 days, will be completed on or before August 27, 2007.

The FAA's detailed evaluation will be conducted under the provisions of 14 CFR Part 150, section 150.33. The primary considerations in the evaluation process are whether the proposed measures may reduce the level of aviation safety or create an undue burden on interstate or foreign commerce, and whether they are reasonably consistent with obtaining the goal of reducing existing non-compatible land uses and preventing the introduction of additional non-compatible land uses.

Interested persons are invited to comment on the proposed program with specific reference to these factors. All comments relating to these factors, other than those properly addressed to local land use authorities, will be considered by the FAA to the extent practicable. Copies of the noise exposure maps and the proposed noise compatibility program are available for examination at the following locations:

Federal Aviation Administration, 2601 Meacham Boulevard, Fort Worth, Texas; Laredo International Airport, 5210 Bob Bullock Loop, Laredo, Texas, 78041. Questions may be directed to the individual named above under the heading, FOR FURTHER INFORMATION CONTACT.

Issued in Fort Worth, Texas, February 28, 2007.
Kelvin L. Solco,
Manager, Airports Division.

[FR Doc. 07-1076 Filed 3-7-07; 8:45 am]

BILLING CODE 4910-13-M